DEPARTMENT OF TRANSPORTATION

Federal Aviation Administration

14 CFR Part 71

[Docket No. FAA-2018-0328; Airspace Docket No. 18-ASO-7]

RIN 2120-AA66

Amendment of Class D Airspace and Class E Airspace, and Revocation of Class E Airspace: New Smyrna Beach, FL

AGENCY: Federal Aviation Administration (FAA), DOT.

ACTION: Final rule, correction.

SUMMARY: This action corrects a final rule published in the Federal Register on August 23, 2018, amending Class D airspace and Class E airspace extending upward from 700 feet or more above the surface at New Smyrna Beach Municipal Airport, New Smyrna Beach, FL. The longitude coordinate symbols for Massey Ranch Airpark listed in Class E airspace areas extending upward from 700 feet were typed as degrees, minutes, minutes instead of degrees, minutes, and seconds. Also, a parenthesis was excluded from the airport's geographic coordinates.

DATES: Effective 0901 UTC, November 8, 2018. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, 1701 Columbia Av., College Park, GA 30337; telephone (404) 305-6364.

SUPPLEMENTARY INFORMATION:

History

The FAA published a final rule in the Federal Register (83 FR 42585, August 23, 2018) for Doc. No. FAA-2018-0328, amending Class D airspace, and Class E airspace extending upward from 700 feet or more above the surface at New Smyrna Beach Municipal Airport, New Smyrna Beach, FL. Subsequent to publication, the FAA found that the symbols of the longitude coordinate for Massey Ranch Airpark, listed in the description under Class E airspace extending upward from 700 feet or more above the surface, was printed incorrectly. Also, a parenthesis was omitted from the geographic coordinates of New Smyrna Beach Municipal Airport. This action corrects these errors.

Class D and E airspace designations are published in paragraphs 5000 and 6005, respectively, of FAA Order 7400.11B dated August 3, 2017, and effective September 15, 2017, which is incorporated by reference in 14 CFR part 71.1. The E airspace designations listed in this document will be published subsequently in the Order.

Correction to Final Rule

Accordingly, pursuant to the authority delegated to me, in the Federal Register of August 23, 2018 (83 FR 42585) FR Doc. 2018-18035, Amendment of D Airspace and Class E Airspace, and Revocation of Class E Airspace; New Smyrna Beach, FL, is corrected as follows:

§ 71.1 [Amended]

ASO FL E5 New Smyrna Beach, FL [Corrected]

On page 42586, column 3 line 53, remove Lat. 29°03′21″ N, long. 80°56′56″ W) and add in its place (Lat. 29°03′21″ N, long. 80°56′56″ W).

On page 42586, column 3 line 55, remove (Lat. 28°58′44″ N, long. 80°55′29′ W) and add in its place (Lat. 28°58′44″ N, long. 80°55′29″ W)

Issued in College Park, Georgia, on September 6, 2018.
Ken Brissenden,
Acting Manager, Operations Support Group, Eastern Service Center, Air Traffic Organization.

[FR Doc. 2018-19978 Filed 9-13-18; 8:45 am]

BILLING CODE 4910-13-P